DEPARTMENT OF LABOR

Mine Safety and Health Administration

30 CFR Parts 50 and 100

RIN 1219-AB63

Criteria and Procedures for Proposed Assessment of Civil Penalties/Reporting and Recordkeeping: Immediate Notification of Accidents

AGENCY: Mine Safety and Health Administration (MSHA), Labor.

ACTION: Direct final rule; confirmation of effective date.

SUMMARY: MSHA published a direct final rule for parts 50 and 100 on December 29, 2009. MSHA stated that the Agency would withdraw the direct final rule if the Agency received significant adverse comments. Because the Agency did not receive any significant adverse comment, the direct final rule became effective. This notice confirms the effective date.

DATES: Effective Date: March 29, 2010.

FOR FURTHER INFORMATION CONTACT: Patricia W. Silvey, Director, Office of Standards, Regulations, and Variances, MSHA, at silvey.patricia@dol.gov (e-mail), 202-693-9440 (voice), or 202-693-9441 (facsimile).

SUPPLEMENTARY INFORMATION: MSHA received comments on the direct final rule indicating that some members of the mining industry misunderstood the Agency's intent. For clarification, the Agency intends that the phrase, “Any other accident,” as used in paragraph (d) of MSHA's standard at § 50.10 refers to:

• An entrapment of an individual for more than 30 minutes; and

• Any other accident as defined in § 50.2(h)(4)-(12).

After reviewing the comments, MSHA determined that they were not “significant adverse comments.” Therefore, the Agency did not withdraw the direct final rule.

The comments can be viewed on MSHA's Web site at http://www.msha.gov/REGS/Comments/E9-30608/immediatenotify.asp.

Dated: April 21, 2010.
Joseph A. Main,
Assistant Secretary of Labor for Mine Safety and Health.

[FR Doc. 2010-9675 Filed 4-26-10; 8:45 am]

BILLING CODE 4510-43-P